DEPARTMENT OF TRANSPORTATION

Federal Aviation Administration

[Summary Notice No. PE-2005-52]

Petitions for Exemption; Dispositions of Petitions Issued

AGENCY: Federal Aviation Administration (FAA), DOT.

ACTION: Notice of disposition of prior petition.

SUMMARY: Pursuant to FAA's rulemaking provisions governing the application, processing, and disposition of petitions for exemption, part 11 of Title 14, Code of Federal Regulations (14 CFR), this notice contains the disposition of certain petitions previously received. The purpose of this notice is to improve the public's awareness of, and participation in, this aspect of FAA's regulatory activities. Neither publication of this notice nor the inclusion or omission of information in the summary is intended to affect the legal status of any petition or its final disposition.

FOR FURTHER INFORMATION CONTACT: Tim Adams (202) 267-8033, Sandy Buchanan-Sumter (202) 267-7271, or John Linsenmeyer (202) 267-5174, Office of Rulemaking (ARM-1), Federal Aviation Administration, 800 Independence Avenue, SW., Washington, DC 20591.

This notice is published pursuant to 14 CFR 11.85 and 11.91.

Issued in Washington, DC, on August 24, 2005.
Anthony F. Fazio,
Director, Office of Rulemaking.

Disposition of Petitions

Docket No.: FAA-2005-15862.

Petitioner: Mr. John Drew Atkin, IV.

Sections of 14 CFR Affected: 14 CFR 91.109(a).

Description of Relief Sought/Disposition: To permit Mr. John Drew Atkin, IV, to conduct certain flight training in certain Beechcraft Bonanza/Debonair airplanes that are equipped with a functioning throw-over control wheel.

Grant, 08/15/2005, Exemption No. 8126A.

Docket No.: FAA-2002-11579.

Petitioner: Federico Helicopters, Inc.

Sections of 14 CFR Affected: 14 CFR 133.33(d).

Description of Relief Sought/Disposition: To permit Federico Helicopters, Inc., to operate a Bell model 204 UH-1B helicopter that is type-certificated in the restricted category for external load operations under 14 CFR 21.25 over congested areas, subject to an approved congested area plan.

Denial, 08/15/2005, Exemption No. 8605.

Docket No.: FAA-2005-21976.

Petitioner: Moyer Aviation, Inc.

Sections of 14 CFR Affected: 14 CFR 135.143(c)(2).

Description of Relief Sought/Disposition: To permit Moyer Aviation, Inc., to operate certain aircraft under part 135 without a TSO-C112 (Mode S) transponder installed in the aircraft.

Grant, 08/15/2005, Exemption No. 8604.

Docket No.: FAA-2005-21007.

Petitioner: Bombardier Aerospace.

Sections of 14 CFR Affected: 14 CFR 121.344(f).

Description of Relief Sought/Disposition: To permit Bombardier Aerospace the operation of three new DHC-8 Series 300 airplanes without recording 88 parameters of flight data required by that regulation.

Denial, 08/11/2005, Exemption No. 8603.

Docket No.: FAA-2001-10091.

Petitioner: Mr. Lloyd E. Swenson.

Sections of 14 CFR Affected: 14 CFR 91.109(a).

Description of Relief Sought/Disposition: To permit Mr. Lloyd E. Swenson to conduct certain flight instruction and simulated instrument flights to meet recent experience requirements in certain Beechcraft airplanes equipped with a functioning throw-over control wheel in place of functioning dual controls.

Grant, 8/11/2005, Exemption No. 7593B.

Docket No.: FAA-2003-14802.

Petitioner: Executive Airlines, Inc. d.b.a. American Eagle.

Sections of 14 CFR Affected: 14 CFR 121.481, 121.487, 121.489, and 121.491.

Description of Relief Sought/Disposition: To permit Executive Airlines, Inc., d.b.a. American Eagle, to conduct its scheduled passenger-carrying operations to/from San Juan, Puerto Rico, and points in the Caribbean, under part 121, subpart Q, Flight Time Limitations and Rest Requirements: Domestic Operations (subpart Q), rather than under part 121, subpart R, Flight Time Limitations: Flag Operations (subpart R).

Grant, 8/10/2005, Exemption No. 8597.

Docket No.: FAA-2005-21877.

Petitioner: Freedom Airlines, Inc.

Sections of 14 CFR Affected: 14 CFR 121.434(c)(2)(ii).

Description of Relief Sought/Disposition: To permit Freedom Airlines, Inc., to substitute a qualified and authorized check airman in place of a Federal Aviation Administration inspector to observe a qualifying pilot in command while that pilot in command is performing prescribed duties during at least one flight leg that includes a takeoff and a landing when completing initial or upgrade training as specified in § 121.434.

Grant, 8/10/2005, Exemption No. 8598.

Docket No.: FAA-2005-21717.

Petitioner: Yukon Eagle Air.

Sections of 14 CFR Affected: 14 CFR 135.143(c)(2).

Description of Relief Sought/Disposition: To permit Yukon Eagle Air to operate certain aircraft under part 135 without a TSO-C112 (Mode S) transponder installed in the aircraft.

Grant, 8/08/2005, Exemption No. 8596.

Docket No.: FAA-2005-22016.

Petitioner: Yellow Bird Aviation, Inc.

Sections of 14 CFR Affected: 14 CFR 135.143(c)(2).

Description of Relief Sought/Disposition: To permit Yellow Bird Aviation, Inc., to operate certain aircraft under part 135 without a TSO-C112 (Mode S) transponder installed in the aircraft.

Grant, 8/08/2005, Exemption No. 8595.

Docket No.: FAA-2005-22014.

Petitioner: LR Services, Inc.

Sections of 14 CFR Affected: 14 CFR 135.143(c)(2).

Description of Relief Sought/Disposition: To permit LR Services, Inc., to operate certain aircraft under part 135 without a TSO-C112 (Mode S) transponder installed in the aircraft.

Grant, 8/8/2005, Exemption No. 8594.

Docket No.: FAA-2002-13734.

Petitioner: Midwest Airlines, Inc.

Sections of 14 CFR Affected: 14 CFR 93.123.

Description of Relief Sought/Disposition: To permit Midwest Airlines, Inc., the use of slot number 1497 at Ronald Reagan Washington National Airport to augment its service from Ronald Reagan National Airport to Kansas City, Missouri.

Grant, 08/08/2005, Exemption No. 7370C.

Docket No.: FAA-2003-14563.

Petitioner: AirTran Airways, Inc.

Sections of 14 CFR Affected: 14 CFR 93.123.

Description of Relief Sought/Disposition: To permit AirTran Airways, Inc., to conduct three operations at Ronald Reagan Washington National Airport without the required slots.

Denial, 4/20/2005, Exemption No. 8541.

Docket No.: FAA-2002-12993.

Petitioner: Stallion 51 Corporation

Sections of 14 CFR Affected: 14 CFR 91.315.

Description of Relief Sought/Disposition: To permit Stallion 51 Corporation, to provide initial and recurrent training and training under contract with the U.S. military in its two North American TF-51 airplanes certified as limited category civil aircraft.

Grant, 8/01/2005, Exemption No. 8593.

[FR Doc. 05-17215 Filed 8-29-05; 8:45 am]

BILLING CODE 4910-13-U